INTERNATIONAL TRADE COMMISSION

[USITC SE-07-024]

Government in the Sunshine Act Meeting Notice

Agency Holding the Meeting: United States International Trade Commission.

Time and Date: November 16, 2007 at 11 a.m.

Place: Room 101, 500 E Street SW., Washington, DC 20436, Telephone: (202) 205-2000.

Status: Open to the public.

Matters to be Considered: 1. Agenda for future meetings: None.

2. Minutes.

3. Ratification List.

4. Inv. Nos. 701-TA-451 and 731-TA-1126-1128 (Preliminary) (Certain Lightweight Thermal Paper from China, Germany, and Korea)—briefing and vote. (The Commission is currently scheduled to transmit its determinations to the Secretary of Commerce on or before November 27, 2007; Commissioners' opinions are currently scheduled to be transmitted to the Secretary of Commerce on or before December 4, 2007.)

5. Outstanding action jackets: None.

In accordance with Commission policy, subject matter listed above, not disposed of at the scheduled meeting, may be carried over to the agenda of the following meeting.

By order of the Commission.
Issued: November 6, 2007.
William R. Bishop,
Hearings and Meetings Coordinator.

[FR Doc. E7-22081 Filed 11-9-07; 8:45 am]

BILLING CODE 7020-02-P